DEPARTMENT OF THE INTERIOR

Geological Survey

Earth Observing System (EOS) Land Processes Distributed Active Archive Center (DAAC) Science Advisory Panel Meeting

AGENCY: Geological Survey, Interior.

ACTION: Notice of meeting.

SUMMARY: Pursuant to Public Law 92-463, the EOS Land Processes DAAC will host a meeting of its Science Advisory Panel at the U.S. Geological Survey EROS Data Center near Sioux Falls, South Dakota. The Panel, comprised of scientists from academic and government institutions, will provide the management of the DAAC with advice and consultation on a broad range of scientific and technical topics relevant to the development and operation of DAAC systems and capabilities.

Topics to be reviewed and discussed by the Panel include: DAAC status reports on FY 1999 activities and plans for FY 2000 activities; Panel review of and recommendations on FY 2000 proposed activities; review of Landsat 7 and Terra mission status; discussions leading to recommendations on the DAAC's Operations, Engineering, Science, and User Services support programs; support Science and Instrument Team data product Quality Assurance activities; and plans to support EOS Land Product Validation efforts.

DATES: February 1-3, 2000, commencing at 8:30 am on February 1 and adjourning at 12:00 pm on February 3.

FOR FURTHER INFORMATION CONTACT: Mr. John Dwyer, EDC DAAC Project Scientist, EROS Data Center, Sioux Falls, South Dakota 57198 at (605) 594-6060.

SUPPLEMENTARY INFORMATION: Meetings of the EDC DAAC Science Advisory Panel are open to the public.

Dated: January 10, 2000.
Richard E. Witmer,
Chief Geographer.

[FR Doc. 00-1023 Filed 1-14-00; 8:45 am]

BILLING CODE 4310-Y7-M